DEPARTMENT OF THE INTERIOR

Fish and Wildlife Service

[FWS-R5-R-2014-N119; BAC-4311-K9-S3]

Chincoteague National Wildlife Refuge and Wallops Island National Wildlife Refuge, Accomack County, Virginia; Draft Comprehensive Conservation Plan and Environmental Impact Statement

AGENCY: Fish and Wildlife Service, Interior.

ACTION: Notice of availability; extension of public comment period.

SUMMARY: We, the U.S. Fish and Wildlife Service (Service), advise the public that we are extending the public review and comment period for the draft comprehensive conservation plan (CCP) and environmental impact statement (EIS) for Chincoteague National Wildlife Refuge (NWR) and Wallops Island NWR.

DATES: To ensure consideration, we must receive your written comments by August 15, 2014. We will hold a public meeting and open house-style meetings during the comment period to receive comments and provide information on the draft plan. In addition, we will use special mailings, newspaper articles, internet postings, and other media announcements to inform people of opportunities for input.

ADDRESSES: Send your comments or requests for more information by any one of the following methods:

• Email: northeastplanning@fws.gov. Include “Chincoteague Draft CCP/EIS” in the subject line of the message.

• Fax: Attention: Thomas Bonetti, Refuge Planner, 413-253-8468.

• U.S. Mail: Attention: Thomas Bonetti, Refuge Planner, USFWS, Northeast Regional Office, 300 Westgate Center Drive, Hadley, MA 01035.

• In-Person Drop Off: You may drop off comments during regular business hours at the refuge headquarters, 8231 Beach Road, Chincoteague Island, VA 23336.

You will find the draft CCP/EIS, as well as information about the planning process and a summary of the CCP, on the planning Web site: http://www.fws.gov/northeast/planning/Chincoteague/ccphome.html.

FOR FURTHER INFORMATION CONTACT: Thomas Bonetti, Planning Team Leader, 413-253-8307.

SUPPLEMENTARY INFORMATION:

Introduction

On May 15, 2014, we published a Federal Register notice (79 FR 27906) announcing the availability of the draft CCP/EIS for Chincoteague NWR and Wallops Island NWR for public review and comment in accordance with National Environmental Policy Act (40 CFR 1506.6(b)) requirements. We originally opened the comment period from May 15, 2014, to July 14, 2014. We are extending the public comment period until August 15, 2014, in response to a request we have received from town of Chincoteague officials. For more information on the draft CCP/EIS and the planning process we followed, please see the May 2014 notice.

Public Involvement

We will give the public an opportunity to provide input at public meetings. You can obtain the schedule from the address or Web site listed in this notice (see ADDRESSES). You may also submit written comments anytime during the comment period.

Public Availability of Comments

Before including your address, phone number, email address, or other personal identifying information in your comment, you should be aware that your entire comment—including your personal identifying information—may be made publicly available at any time. While you can ask us in your comment to withhold your personal identifying information from public review, we cannot guarantee that we will be able to do so.

Dated: June 24, 2014.
Deborah Rocque,
Acting Regional Director, Northeast Region.

[FR Doc. 2014-16530 Filed 7-14-14; 8:45 am]

BILLING CODE 4310-55-P